DEPARTMENT OF TRANSPORTATION

Federal Aviation Administration

14 CFR Part 39

[Docket No. FAA-2018-0759; Product Identifier 2018-NM-055-AD; Amendment 39-19501; AD 2018-23-14]

RIN 2120-AA64

Airworthiness Directives; Airbus SAS Airplanes

AGENCY: Federal Aviation Administration (FAA), Department of Transportation (DOT).

ACTION: Final rule.

SUMMARY: We are adopting a new airworthiness directive (AD) for certain Airbus SAS Model A330-200 series airplanes; Model A330-200 Freighter series airplanes; and Model A330-300 series airplanes. This AD was prompted by revisions to certain airworthiness limitation item (ALI) documents, which specify more restrictive instructions and/or airworthiness limitations. This AD requires revising the existing maintenance or inspection program, as applicable, to incorporate new or more restrictive instructions and/or airworthiness limitation requirements. We are issuing this AD to address the unsafe condition on these products.

DATES: This AD is effective January 2, 2019.

The Director of the Federal Register approved the incorporation by reference of certain publications listed in this AD as of January 2, 2019.

ADDRESSES: For service information identified in this final rule, contact Airbus SAS, Airworthiness Office—EAL, Rond-Point Emile Dewoitine No: 2, 31700 Blagnac Cedex, France; telephone +33 5 61 93 36 96; fax +33 5 61 93 45 80; email airworthiness.A330-A340@airbus.com; internet http://www.airbus.com. You may view this service information at the FAA, Transport Standards Branch, 2200 South 216th St., Des Moines, WA. For information on the availability of this material at the FAA, call 206-231-3195. It is also available on the internet at http://www.regulations.gov by searching for and locating Docket No. FAA-2018-0759.

Examining the AD Docket

You may examine the AD docket on the internet at http://www.regulations.gov by searching for and locating Docket No. FAA-2018-0759; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

We issued a notice of proposed rulemaking (NPRM) to amend 14 CFR part 39 by adding an AD that would apply to certain Airbus SAS Model A330-200 series airplanes; Model A330-200 Freighter series airplanes; and Model A330-300 series airplanes. The NPRM published in the Federal Register on August 24, 2018 (83 FR 42812). The NPRM was prompted by revisions to certain ALI documents, which specify more restrictive instructions and/or airworthiness limitations. The NPRM proposed to require revising the existing maintenance or inspection program, as applicable, to incorporate new or more restrictive instructions and/or airworthiness limitation requirements.

We are issuing this AD to address fatigue cracking, accidental damage, or corrosion in principal structural elements, and possible failure of certain life limited parts, which could result in reduced structural integrity of the airplane.

The European Aviation Safety Agency (EASA), which is the Technical Agent for the Member States of the European Union, has issued EASA AD 2018-0034, dated February 5, 2018 (referred to after this as the Mandatory Continuing Airworthiness Information, or “the MCAI”), to correct an unsafe condition for Airbus SAS Model A330-200 series airplanes; Model A330-200 Freighter series airplanes; and Model A330-300 series airplanes. The MCAI states:

The airworthiness limitations for Airbus A330 and A340 aeroplanes, which are approved by EASA, are currently defined and published in the A330 and A340 ALS document(s). The Safe Life Airworthiness Limitation Items are specified in ALS Part 1. These instructions have been identified as mandatory for continued airworthiness. Failure to accomplish these instructions could result in an unsafe condition.

EASA previously issued [EASA] AD 2014-0009 [which corresponds to FAA AD 2017-10-24, Amendment 39-18898 (82 FR 24035, May 25, 2017) (“AD 2017-10-24”)] to require the implementation of the instructions and airworthiness limitations as specified in Airbus A330 and A340 ALS Part 1 documents at Revision 07.

Since that [EASA] AD was issued, improvement of safe life component selection and life extension campaigns resulted in life limitations changes, among others new or more restrictive life limitations, approved by EASA. Consequently, Airbus successively issued Revision 08 and Revision 09 of the A330 and A340 ALS Part 1, compiling all ALS Part 1 changes approved since previous Revision 07.

In addition, Airbus published Variation 9.2 to remove from ALS Part 1 some life limits connected to a deficiency in the fatigue performance of 300M high strength steel used in forgings. These life limits, applicable only for a specific batch of parts, are required by EASA AD 2017-0185.

For the reason described above, this [EASA] AD retains the requirements of EASA AD 2014-0009, which is superseded, and requires accomplishment of the actions specified in the applicable ALS.

You may examine the MCAI in the AD docket on the internet at http://www.regulations.gov by searching for and locating Docket No. FAA-2018-0759.

Comments

We gave the public the opportunity to participate in developing this final rule. We have considered the comments received. The commenter Michael Josefik indicated support for the NPRM.

Conclusion

We reviewed the relevant data, considered the comment received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus has issued A330 Airworthiness Limitations Section (ALS) Part 1, Safe Life Airworthiness Limitation Items (SL-ALI), Revision 09, dated September 18, 2017. This service information describes SL-ALI for the landing gear.

Airbus has also issued A330 ALS Part 1, SL-ALI, Variation 9.2, dated November 28, 2017; and A330 ALS Part 1, SL-ALI, Variation 9.3, dated November 29, 2017. This service information describes revised life limits for certain parts. These documents are distinct because they apply to different life limited parts.

This service information is reasonably available because the interested parties have access to it through their normal course of business or by the means identified in the ADDRESSES section.

Costs of Compliance

We estimate that this AD affects 105 airplanes of U.S. registry. We estimate the following costs to comply with this AD:

We have determined that revising the existing maintenance or inspection program takes an average of 90 work-hours per operator, although we recognize that this number may vary from operator to operator. In the past, we have estimated that this action takes 1 work-hour per airplane. Since operators incorporate maintenance or inspection program changes for their affected fleet(s), we have determined that a per-operator estimate is more accurate than a per-airplane estimate. Therefore, we estimate the total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-23-14 Airbus SAS: Amendment 39-19501; Docket No. FAA-2018-0759; Product Identifier 2018-NM-055-AD.

(a) Effective Date

This AD is effective January 2, 2019.

(b) Affected ADs

This AD affects AD 2017-10-24, Amendment 39-18898 (82 FR 24035, May 25, 2017) (“AD 2017-10-24”).

(c) Applicability

This AD applies to the Airbus SAS airplanes identified in paragraphs (c)(1), (c)(2), and (c)(3) of this AD, certificated in any category, with an original certificate of airworthiness or original export certificate of airworthiness issued on or before November 29, 2017.

(1) Airbus SAS Model A330-201, -202, -203, -223, and -243 airplanes.

(2) Airbus SAS Model A330-223F and -243F airplanes.

(3) Airbus SAS Model A330-301, -302, -303, -321, -322, -323, -341, -342, and -343 airplanes.

(d) Subject

Air Transport Association (ATA) of America Code 05, Time Limits/Maintenance Checks.

(e) Reason

This AD was prompted by revisions to certain airworthiness limitation item (ALI) documents, which specify more restrictive instructions and/or airworthiness limitations. We are issuing this AD to address fatigue cracking, accidental damage, or corrosion in principal structural elements, and possible failure of certain life limited parts, which could result in reduced structural integrity of the airplane.

(f) Compliance

Comply with this AD within the compliance times specified, unless already done.

(g) Maintenance or Inspection Program Revision

Within 90 days after the effective date of this AD, revise the existing maintenance or inspection program, as applicable, to incorporate the information specified in the service information identified in paragraphs (g)(1), (g)(2), and (g)(3) of this AD. The initial compliance times for accomplishing the tasks are at the applicable times specified in the service information identified in paragraphs (g)(1), (g)(2), and (g)(3) of this AD, or within 90 days after the effective date of this AD, whichever occurs later.

(1) Airbus A330 Airworthiness Limitations Section (ALS) Part 1, Safe Life Airworthiness Limitation Items (SL-ALI), Revision 09, dated September 18, 2017.

(2) Airbus A330 ALS Part 1, SL-ALI, Variation 9.2, dated November 28, 2017.

(3) Airbus A330 ALS Part 1, SL-ALI, Variation 9.3, dated November 29, 2017.

(h) Terminating Actions for AD 2017-10-24

Accomplishing the actions required by paragraph (g) of this AD terminates all of the requirements of AD 2017-10-24.

(i) No Alternative Actions or Intervals

After the maintenance or inspection program, as applicable, has been revised as required by paragraph (g) of this AD, no alternative actions (e.g., inspections) or intervals may be used unless the actions or intervals are approved as an alternative method of compliance (AMOC) in accordance with the procedures specified in paragraph (j)(1) of this AD.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2017-10-24 are not approved as AMOCs for this AD.

(2) Contacting the Manufacturer: For any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(k) Related Information

(1) Refer to Mandatory Continuing Airworthiness Information (MCAI) EASA AD 2018-0034, February 5, 2018, for related information. This MCAI may be found in the AD docket on the internet at http://www.regulations.gov by searching for and locating Docket No. FAA-2018-0759.

(2) For more information about this AD, contact Vladimir Ulyanov, Aerospace Engineer, International Section, Transport Standards Branch, FAA, 2200 South 216th St., Des Moines, WA 98198; telephone and fax 206-231-3229.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus A330 Airworthiness Limitations Section (ALS) Part 1, Safe Life Airworthiness Limitation Items (SL-ALI), Revision 09, dated September 18, 2017.

(ii) Airbus A330 ALS Part 1, SL-ALI, Variation 9.2, dated November 28, 2017.

(iii) Airbus A330 ALS Part 1, SL-ALI, Variation 9.3, dated November 29, 2017.

(3) For service information identified in this AD, contact Airbus SAS, Airworthiness Office—EAL, Rond-Point Emile Dewoitine No: 2, 31700 Blagnac Cedex, France; telephone +33 5 61 93 36 96; fax +33 5 61 93 45 80; email airworthiness.A330-A340@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on November 8, 2018.
Chris Spangenberg,
Acting Director, System Oversight Division, Aircraft Certification Service.

[FR Doc. 2018-25392 Filed 11-26-18; 8:45 am]

BILLING CODE 4910-13-P